DEPARTMENT OF COMMERCE

National Oceanic and Atmospheric Administration

RIN 0648-XD502

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, October 6-14, 2014.

DATES: The Council will begin its plenary session at 8 a.m. on Wednesday October 8, continuing through Tuesday October 14, 2014. The Scientific Statistical Committee (SSC) will begin at 8 a.m. on Monday October 6 and continue through Wednesday October 8, 2014. The Council's Advisory Panel (AP) will begin at 8 a.m. on Tuesday October 7, and continue through Saturday October 11, 2014. The Enforcement Committee will meet from 1 p.m. to 4 p.m. on Tuesday October 7, 2014. All meetings are open to the public, except executive sessions.

ADDRESSES: The meetings will be held at the Anchorage Hilton Hotel, 500 West 3rd, Anchorage, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: Council Plenary Session: The agenda for the Council's plenary session will include the following issues. The Council may take appropriate action on any of the issues identified.

1. Executive Director's Report (including Magnuson-Stevens Act (MSA)/legislative update; discussion of joint meeting with International Pacific Halibut Commission (IPHC)) NMFS Management Report (including update Fishing Guide Definition and Habitat Division Update)

ADF&G Report

NOAA Enforcement Report

USCG Report

USFWS Report

Protected Species Report

National Institute for Occupational Safety and Health (NIOSH) Report

2. Observer Annual Deployment Plan; Observer Advisory Committee (OAC) Report

3. Electronic Monitoring (EM) Development—EM Workgroup report; SSC Review of Study Designs (T)

4. Bering Sea Aleutian Island (BSAI) Crab Stock Assessment Fishery Evaluation (SAFE) report: Set Acceptable Biological Catch/Overfishing Levels (ABC/OFLs) for 7 stocks; Plan Team (PT) report

5. Proposed groundfish harvest specifications/PT Report

6. Initial review Gulf of Alaska (GOA) Skate Maximum Retainable Allowance (MRA) revisions

7. Discussion papers on MRA enforcement period/all fisheries

8. Discussion papers on GOA Trawl Bycatch Management; salmon genetics report/Alaska Fishery Science Center (AFSC) social survey update

9. Final action on Community Development Quota (CDQ) Pacific cod fishery development

10. Final action on Crab Right of First Refusal (ROFR) contract terms

11. Final action on ROFR Aleutia Processor Quota Share(PQS)

12. Initial review of Aleutian Island (AI) Pacific cod Allocation

13. Final report on Amendment 80 5-year review

14. Catch proposal/Discussion paper on Charter Halibut Common Pool

15. Ecosystem Committee report

16. Update/review on objectives for Bering Sea Fishery Ecosystem Plan (FEP)

17. Essential Fish Habitat (EFH) 5-year Review update: SSC only

The Advisory Panel will address most of the same agenda issues as the Council except B reports.

The SSC agenda will include the following issues:

1. Observer Deployment Plan

2. EM Study Design

3. BSAI Crab SAFE

4. Groundfish Specifications

5. GOA Skate MRA

6. AI Pacific cod allocation

7. Bering Sea FEP

8. EFH 5-year review

9. Salmon genetics report; AFSC social survey update

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.npfmc.org Background documents, reports, and analyses for review are posted on the Council Web site in advance of the meeting. The names and organizational affiliations of SSC members are also posted on the Web site.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: September 16, 2014.
Tracey L. Thompson,
Acting Deputy Director, Office of Sustainable Fisheries, National Marine Fisheries Service.

[FR Doc. 2014-22375 Filed 9-18-14; 8:45 am]

BILLING CODE 3510-22-P